DEPARTMENT OF THE INTERIOR

National Park Service

30-Day Federal Register Notice of Intention To Request Clearance of Collection of Information; Opportunity for Public Comment

AGENCY: National Park Service, Interior.

ACTION: Notice and request for comments.

SUMMARY: Under the provisions of the Paperwork Reduction Act of 1995 (Pub. L. 104-13, 44 U.S.C., Chapter 3507) and 5 CFR Part 1320, Reporting and Record Keeping Requirements, the National Park Service (NPS) invites public comments on an extension of a currently approved information collection Office of Management and Budget (OMB) Control # 1024-0231.

The OMB has up to 60 days to approve or disapprove the requested information collection, but may respond after 30 days. Therefore, to ensure maximum consideration, OMB should receive public comments within 30 days of the date on which this notice is published in the Federal Register.

The National Park Service published the 60-day Federal Register notice to solicit comments on this proposed information collection on April 5, 2010 (75 FR 17152-17153). No comments were received on this notice.

DATES: Public comments on the proposed Information Collection Request (ICR) must be received by July 12, 2010.

ADDRESSES: You may submit comments directly to the Desk Officer for the Department of the Interior (OMB #1024-0231), Office of Information and Regulatory Affairs, OMB by fax at 202/395-5806, or by electronic mail at OIRA_DOCKET@omb.eop.gov. Please also send a copy of your comments to Ms. Jo A. Pendry, Chief, Commercial Services Program, National Park Service, 1849 C Street, NW. (2410), Washington, DC 20240, or electronically to jo_pendry@nps.gov.

FOR FURTHER INFORMATION CONTACT: Jo A. Pendry, phone: 202-513-7156, fax: 202-371-2090, or at the address above. You are entitled to a copy of the entire ICR package free-of-charge.

SUPPLEMENTARY INFORMATION: Title: Concession Contracts—36 CFR Part 51.

OMB Control Number: 1024-0231.

Expiration Date of Approval: July 31, 2010.

Type of Request: Revision of a currently approved information collection.

Description of Need: The information is being collected to meet the requirements of Sections 403(7) and (8) of the NPS Concessions Management Improvement Act of 1998 (the Act), concerning the granting of a preferential right to renew a concession contract and Section 405 of the Act regarding the construction of capital improvements by concessioners. The information will be used by the agency in considering appeals concerning preferred offeror determinations and agency review and approval of construction projects and determinations with regard to the leasehold surrender interest value of such projects. The request to OMB is to renew approval of the collection of information in 36 CFR Part 51, Section 51.47, regarding the appeal of a preferred offeror determination, and Sections 51.54 and 51.55 regarding NPS approval of the construction of capital improvements by concessioners. NPS is requesting a 3-year term of approval for this collection activity. The following chart provides the number of respondents annually, average completion time, and total annual burden hours by section.

Section | Number of respondents per year | Average completion time (hours) | Total hours annually
36 CFR 51.47 | 1 | 1 | 1
36 CFR 51.54 (Large projects) | 31 | 16 | 496
36 CFR 51.54 (Small projects) | 89 | 8 | 712
36 CFR 51.55 (Lage projects) | 31 | 56 | 1,736
36 CFR 51.55 (Small projects) | 89 | 24 | 2,136

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so. An agency may not conduct or sponsor, and a person is not required to respond to a collection of information unless it displays a currently valid OMB control number. The OMB control number for this collection of information is 1024-0231.

Dated: June 3, 2010.
Cartina A. Miller,
Information Collection Clearance Officer, National Park Service.

[FR Doc. 2010-13906 Filed 6-9-10; 8:45 am]

BILLING CODE 4312-53-P